DEPARTMENT OF LABOR

Employment and Training Administration

[NAFTA-03689 and NAFTA-03689A]

Victor Equipment Company, Division of Thermadyne Holdings Corporation, Denton, Texas and Victor Equipment Company, Division of Thermadyne Holdings Corporation, Abilene Texas; Notice of Termination of Investigation

Pursuant to Title V of the North American Free Trade Agreement Implementation Act (P.L. 103-182) concerning transitional adjustment assistance, hereinafter called (NAFTA-TAA), and in accordance with Section 250(a), Subchapter D, Chapter 2, Title II, of the Trade Act of 1974, as amended (19 U.S.C. 2273), an investigation was initiated on January 28, 2000 in response to a petition filed on behalf of workers at Victor Equipment Company, Division of Thermadyne Holdings Corporation, Denton, Texas (NAFTA-3689), and Victor Equipment Company, Division of Thermadyne Holdings Corporation, Abilene, Texas (NAFTA-3689A).

In a letter dated February 3, 2000, the petitioner requested that the petition for NAFTA-TAA be withdrawn. Consequently, further investigation in this case would serve no purpose, and the investigation has been terminated.

Signed at Washington, DC, this 10th day of February, 2000.
Grant D. Beale,
Program Manager, Division of Trade Adjustment Assistance.

[FR Doc. 00-4125 Filed 2-18-00; 8:45 am]

BILLING CODE 4510-30-M